FEDERAL COMMUNICATIONS COMMISSION

Notice of Public Information Collection(s) Being Submitted for Review and Approval to the Office of Management and Budget (OMB), Comments Requested

December 21, 2010.

SUMMARY: As part of its continuing effort to reduce paperwork burden and as required by the Paperwork Reduction Act (PRA) of 1995 (44 U.S.C. 3501-3520), the Federal Communications Commission invites the general public and other Federal agencies to comment on the following information collection. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 14, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov.). Include in the e-mail the OMB control number of the collection as shown in the “Supplementary Information” section below, or if there is no OMB control number, include the Title as shown in the “Supplementary Information” section. If you are unable to submit your comments by e-mail, contact the person listed below to make alternate arrangements.

FOR FURTHER INFORMATION CONTACT: For additional information, contact Judith B. Herman at 202-418-0214 or via the Internet at Judith-b.herman@fcc.gov.

SUPPLEMENTARY INFORMATION: OMB Control Number: 3060-0698.

Title: Sections 25.203(i) and 73.1030(a)(2), Radio Astronomy Coordination Zone in Puerto Rico.

Form No.: N/A.

Type of Review: Revision of a currently approved collection.

Respondents: Business or other for-profit, not-for-profit institutions, and State, local or tribal government.

Number of Respondents: 200 respondents; 1,000 responses.

Estimated Time per Response: 5-40 minutes (.0833 hours to .667 hours).

Frequency of Response: On occasion reporting requirement and third party disclosure requirement.

Obligation to Respond: Required to obtain or retain benefits. Statutory authority for this information collection is contained in 47 U.S.C. sections 154(i), 303(f), 303(r), and 309(j)(13).

Total Annual Burden: 142 hours.

Total Annual Cost: N/A.

Privacy Act Impact Assessment: N/A.

Nature and Extent of Confidentiality: There is no need for confidentiality.

Needs and Uses: The Commission will submit this expiring information collection (IC) to the OMB during this comment period. The Commission is seeking OMB approval for a revision. The Commission is reporting a 114 hour program change decrease to the total burden hour estimate. The revision is because 47 CFR section 23.20 has been removed from this information collection since the last time OMB approved this information collection.

The Commission adopted and released a Report and Order, IB Docket No. 05-216, FCC 10-7, which eliminated Part 23 rules because there were no International Fixed Public Radiocommunications Services (IFPRS) licenses in operation.

The information collected is used to facilitate coordination between the Observatory and Commission-licensed services in the Commonwealth of Puerto Rico. Applicants for new or modified radio communication facilities within the Coordination Zone are required to submit technical information concerning the applicant's proposed services to enable the Observatory to determine the potential for interference with its operations. The Observatory will perform interference evaluations at no cost to the applicants. If potential interference problems are identified, applicants are required to make reasonable attempts to resolve or mitigate such problems in order to protect the Observatory.

Federal Communications Commission.
Marlene H. Dortch,
Secretary.

[FR Doc. 2011-558 Filed 1-12-11; 8:45 am]

BILLING CODE 6712-01-P